DEPARTMENT OF COMMERCE

International Trade Administration

[A-552-802]

Certain Frozen Warmwater Shrimp From the Socialist Republic of Vietnam: Partial Rescission of Antidumping Duty Administrative Review; 2015-2016

AGENCY: Enforcement and Compliance, International Trade Administration, Department of Commerce.

SUMMARY: The Department of Commerce (“the Department”) is rescinding the administrative review, in part, of the antidumping duty order on certain frozen warmwater shrimp from the Socialist Republic of Vietnam (“Vietnam”) for the period February 1, 2015 through January 31, 2016.

DATES: Effective July 15, 2016.

FOR FURTHER INFORMATION CONTACT: Irene Gorelik, AD/CVD Operations, Office V, Enforcement and Compliance, International Trade Administration, Department of Commerce, 14th Street and Constitution Avenue NW., Washington, DC 20230; telephone: (202) 482-6905.

SUPPLEMENTARY INFORMATION:

Background

On April 7, 2016, based on timely requests for review for 62 companies by Ad Hoc Shrimp Trade Action Committee (“Petitioner”),¹ 193 companies by the American Shrimp Processors Association (“ASPA”),² and various Vietnamese companies,³ the Department published in the Federal Register a notice of initiation of an administrative review of the antidumping duty order on certain frozen warmwater shrimp from Vietnam covering the period February 1, 2015, through January 31, 2016.⁴

¹ See Petitioner's Request for Administrative Review, dated February 29, 2016.

² See ASPA's Request for Administrative Review, dated February 29, 2016.

³ See VASEP's submission, “Request for Administrative Review (02/01/15-01/31/16),” dated February 29, 2016. See also Quoc Viet Seaproducts Processing Trading and Import-Export Co., Ltd.'s (“Quoc Viet”) and Thong Thuan Company Limited's (“Thong Thuan”) combined submission dated February 29, 2016.

⁴ See Initiation of Antidumping and Countervailing Duty Administrative Reviews, 81 FR 20324 (April 7, 2016) (“Initiation Notice”).

On June 30, 2016, Quoc Viet and Thong Thuan withdrew their respective requests for administrative review.⁵ On July 1, 2016, Petitioner withdrew its request for an administrative review for 20 companies, and their various name iterations, as listed in the Initiation Notice.⁶ On July 1, 2016, ASPA withdrew its request for an administrative review for 22 companies and their various name iterations, as listed in the Initiation Notice.⁷ On July 1, 2016, VASEP withdrew its request for an administrative review of 17 companies and their various name iterations, as listed in the Initiation Notice.⁸ No other party requested a review of these exporters. On July 6, 2016, Petitioner, ASPA, and the Minh Phu Group withdrew their respective requests for administrative review of the Minh Phu Group, which the Department intends to rescind in a separate notice.

⁵ See Quoc Viet and Thong Thuan's Submission re; “Withdrawal of Request for Administrative Review,” dated June 30, 2016.

⁶ See Petitioners' Submissions re; “Domestic Producers' Partial Withdrawal of Review Requests,” dated July 1, 2016.

⁷ See ASPA's Submissions re; “Domestic Producers' Partial Withdrawal of Review Requests,” dated July 1, 2016.

⁸ See VASEP's Submission re; “Partial Withdrawal of Review Requests,” dated July 1, 2016.

Partial Rescission of Review

Pursuant to 19 CFR 351.213(d)(1), the Department will rescind an administrative review, in whole or in part, if the party that requested the review withdraws its request within 90 days of the publication of the notice of initiation of the requested review. Because Petitioner, ASPA, and the individual companies all withdrew their requests for administrative review within 90 days of the date of publication of the Initiation Notice, and no other interested party requested a review of these companies,⁹ the Department is rescinding this review with respect to the companies with no remaining review requests identified in Appendix 1, in accordance with 19 CFR 351.213(d)(1).

⁹ While Petitioner and ASPA withdrew their respective review requests of Tan Phong Phu Seafood Co., Ltd., VASEP did not withdraw its review request on behalf of this company; thus, we are not rescinding the review with respect to Tan Phong Phu Seafood Co., Ltd., as there remains an active review request for it on the record.

Assessment

The Department will instruct U.S. Customs and Border Protection (“CBP”) to assess antidumping duties on all appropriate entries at a rate equal to the cash deposit of estimated antidumping duties required at the time of entry, or withdrawal from warehouse, for consumption, during the period February 1, 2015, through January 31, 2016, in accordance with 19 CFR 351.212(c)(1)(i). The Department intends to issue appropriate assessment instructions to CBP 15 days after the publication of this notice in the Federal Register, if appropriate.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: July 11, 2016.
Christian Marsh,
Deputy Assistant Secretary for Antidumping and Countervailing Duty Operations.

Appendix I—Companies Rescinded From Review

1.—Bac Lieu Fisheries Joint Stock Company

—Bac Lieu Fisheries Joint Stock Company (“Bac Lieu”)

—Bac Lieu Fisheries Joint Stock Company (“Bac Lieu Fis”)

2.—Ca Mau Seafood Joint Stock Company (“Seaprimexco Vietnam”)

—Ca Mau Seafood Joint Stock Company (“Seaprimexco”)

—Ca Mau Seafood Joint Stock Company (“SEAPRIMEXCO”)

—Minh Hai Sea Products Import Export Company (“Seaprimex Co”)

—Seaprimexco

—Seaprimexco Vietnam

3.—Camau Seafood Factory No.5

—Camau Seafood Factory No.4

—Camau Frozen Seafood Processing ImportExport Corporation (“CAMIMEX”)

—Camau Frozen Seafood Processing Import Export Corporation (“Camimex”)

—Camau Frozen Seafood Processing Import Export Corp. (CAMIMEX-FAC 25)

—Camau Frozen Seafood Processing Import-Export Corporation (“CAMIMEX”)

—Camau Frozen Seafood Processing Import Export Corporation (“Camimex”)

—Ca Mau Frozen Seafood Processing Import Export Corporation (“CAMIMEX”)

4.—Camau Seafood and Service Joint Stock Company (“CASES”)

—Camau Seafood Processing and Service Jointstock Corporation (“CASES”)

—Camau Seafood Processing and Service Joint-Stock Company (“CASES”)

—Camau Seafood Processing and Service Joint Stock Corporation (and its affiliates, Kien Giang Branch—Camau Seafood Processing & Service Joint Stock Corporation, collectively “CASES”)

5. Can Tho Import Export Fishery Limited Company (“CAFISH”)

6.—Cuu Long Seaproducts Company (“Cuu Long Seapro”)

—Cuulong Seaproducts Company (“Cuulong Seapro”)

—Cuulong Seaproducts Company (“Cuu Long Seapro”)

—CL Fish Co., Ltd. (Cuu Long Fish Company)

7.—Hai Viet Corporation (HAVICO)

—Hai Viet Corporation (“HAVICO”)

8.—Minh Hai Export Frozen Seafood Processing Joint-Stock Company (“Minh Hai Jostoco”)

—Minh Hai Export Frozen Seafood Processing JointStock Company (“Minh Hai Jostoco”)

9.—Minh Hai Joint-Stock Seafoods Processing Company (Seaprodex Minh Hai) (Sea Minh Hai)

—Minh Hai Joint-Stock Seafoods Processing Company (“Seaprodex Minh Hai”)

—Sea Minh Hai

—Seaprodex Minh Hai (Minh Hai Joint Stock Seafoods Processing Co.)

—Seaprodex Minh Hai

10. Ngoc Tri Seafood Joint Stock Company

11.—Nha Trang Seaproduct Company (and its affiliates NT Seafoods Corporation, Nha Trang Seafoods—F.89 Joint Stock Company, NTSF Seafoods Joint Stock Company (collectively “Nha Trang Seafoods Group”)

—NTSF Seafoods Joint Stock Company (“NTSF Seafoods”) (Nha Trang Seafoods F89 Joint Stock Company) (Nha Trang Seaproduct Company) (NT Seafoods Corporation)

—Nha Trang Seaproduct Company (“Nha Trang Seafoods”)

12.—Quoc Viet Seaproducts Processing Trading and Import-Export Co., Ltd.

—Quoc Viet Seaproducts Processing Trade and Import-Export Co., Ltd. (“Quoc Viet Co. Ltd.”)

13.—Sao Ta Foods Joint Stock Company (Sao Ta Seafood Factory) (FIMEX VN)

—Sao Ta Foods Joint Stock Company (“FIMEX VN”) (and its factory “Sao Ta Seafoods Factory”)

—Fimex VN

—Sao Ta Foods Joint Stock Company (“Fimex VN”)

—Sao Ta Seafood Factory

14. Seavina Joint Stock Company

15.—Soc Trang Aquatic Products and General Import Export Company (“Stapimex”)

—Soc Trang Seafood Joint Stock Company (“STAPIMEX”)

—Soc Trang Seafood Joint Stock Company (“Stapimex”)

16.—Cong Ty Tnhh Thong Thuan (Thong Thuan)

—Thong Thuan Company Limited

—Thong Thuan Company

17.—Thong Thuan Seafood Company Limited

—Thong Thuan—Cam Ranh Seafood Joint Stock Company

18.—Thuan Phuoc Seafoods and Trading Corporation

—Thuan Phuoc Seafoods and Trading Corporation (“Thuan Phuoc Corp”)

—Thuan Phuoc Seafoods and Trading Corporation and its separate factories Frozen Seafood Factory No. 32, Seafoods and Foodstuff Factory, and My Son Seafoods Factory (collectively “Thuan Phuoc Corp.”)

—Seafoods and Foodstuff Factory

—My Son Seafoods Factory

—Frozen Seafoods Factory No. 32

19.—Viet Foods Co., Ltd.

—Viet Foods Co., Ltd. (“Viet Foods”)

—Nam Hai Foodstuff and Export Company Ltd

20.—Vietnam Clean Seafood Corporation

—Vietnam Clean Seafood Corporation (“Vina Cleanfood”)

—Vietnam Clean Seafood Corporation (VINA Cleanfood)

21.—Viet I-Mei Frozen Foods Co., Ltd.

—Viet I-Mei Frozen Foods Co. Ltd (“Viet I-Mei”)

[FR Doc. 2016-16804 Filed 7-14-16; 8:45 am]

BILLING CODE 3510-DS-P